DEPARTMENT OF ENERGY

Federal Energy Regulatory Commission

[Project No. 13883-000]

ORPC Alaska, LLC; Notice of Preliminary Permit Application Accepted for Filing and Soliciting Comments, Motions To Intervene, and Competing Applications

December 14, 2010.

On November 22, 2010, ORPC Alaska, LLC filed an application for a preliminary permit, pursuant to section 4(f) of the Federal Power Act (FPA), proposing to study the feasibility of the Nenana RivGen Power Project (Nenana Project) to be located on the Tanana River in the vicinity of Nenana, Alaska, in the unorganized borough of Yukon-Koyukuk, Alaska. The sole purpose of a preliminary permit, if issued, is to grant the permit holder priority to file a license application during the permit term. A preliminary permit does not authorize the permit holder to perform any land-disturbing activities or otherwise enter upon lands or waters owned by others without the owners' express permission.

The proposed Nenana Project will consist of the following: (1) Up to six 50-kilowatt RivGen turbine-generator modules with a combined capacity of 300 kilowatts; (2) an approximately 450-foot-long, 24.9-kilovolt underwater transmission cable from the module site to a shore station on the north bank of the Tanana River, or an alternate transmission cable configuration that is yet to be determined; and (3) appurtenant facilities. The Nenana Project would operate 140 days per year, and the estimated annual generation would be 721 megawatt-hours.

Applicant Contact: Monty Worthington, Director of Project Development, ORPC Alaska, LLC, 725 Christensen Drive, Suite A, Anchorage, AK 99501; phone: (907) 339-7939.

FERC Contact: Jennifer Harper (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13883-000) in the docket number field to access the document. For assistance, contact FERC Online Support.

Kimberly D. Bose,
Secretary.

[FR Doc. 2010-31935 Filed 12-20-10; 8:45 am]

BILLING CODE 6717-01-P